DEPARTMENT OF TRANSPORTATION

Surface Transportation Board

[STB Finance Docket No. 34117]

Pemiscot County Port Authority—Construction Exemption “ Pemiscot County, MO

AGENCY: Surface Transportation Board.

ACTION: Notice of exemption.

SUMMARY: Under 49 U.S.C. 10502, the Board conditionally exempts from the prior approval requirements of 49 U.S.C. 10901 the construction by Pemiscot County Port Authority (Pemiscot) of a 5-mile line of railroad between milepost 212.32 at Hayti, MO, and milepost 217.22 at Pemiscot's existing intermodal port facility in Pemiscot County, MO.

DATES: The exemption will not become effective until the environmental review process is completed. Once that process is completed, the Board will issue a further decision addressing the environmental matters and establishing an exemption effective date at that time, if appropriate. Petitions to reopen must be filed by July 22, 2002.

ADDRESSES: Send pleadings, referring to STB Finance Docket No. 34117, to: (1) Surface Transportation Board, Case Control Unit, 1925 K Street, NW., Washington, DC 20423-0001; and (2) John D. Heffner, 555 Twelfth Street, NW., Suite 950N, Washington, DC 20004.

FOR FURTHER INFORMATION CONTACT: Beryl Gordon (202) 565-1600. [TDD for the hearing impaired: 1-800-877-8339.]

SUPPLEMENTARY INFORMATION: Additional information is contained in the Board's decision. To purchase a copy of the full decision write to, call, or pick up in person from: Dā 2 Dā Legal Copy Service, Suite 405, 1925 K Street, NW., Washington, DC 20006. Telephone: (202) 293-7776. [TDD for the hearing impaired: 1-800-877-8339.]

Board decisions and notices are available on our website at “http://WWW.STB.DOT.GOV.”

Decided: June 25, 2002.
By the Board, Chairman Morgan and Vice Chairman Burkes.
Vernon A. Williams,
Secretary.

[FR Doc. 02-16455 Filed 7-2-02; 8:45 am]

BILLING CODE 4915-00-P